DEPARTMENT OF TRANSPORTATION

Federal Motor Carrier Safety Administration

Commercial Driver's License Information System (CDLIS) Modernization Plan

AGENCY: Federal Motor Carrier Safety Administration (FMCSA), DOT.

ACTION: Notice.

SUMMARY: The Federal Motor Carrier Safety Administration (FMCSA) plans to modernize the Commercial Driver's License Information System (CDLIS) in response to Title IV (Motor Carrier Safety Reauthorization Act of 2005) of the Safe, Accountable, Flexible, Efficient Transportation Equity Act: a Legacy for Users (SAFETEA-LU), which was signed into law on August 10, 2005. As required by SAFETEA-LU, the modernization plan must: (a) Comply with applicable Federal information technology security standards; (b) provide for the electronic exchange of all information, including posting of convictions; (c) contain self-auditing features to ensure that data is being posted correctly and consistently by the States; (d) integrate the commercial driver's license and medical certificate; and (e) provide a schedule for modernization of the system. SAFETEA-LU authorizes a total of $28 million (FY 2006-2009) to carry out this project. This notice publishes the plan which provides an overview of the key tasks associated with the CDLIS Modernization project, and will result in a system that satisfies the criteria specified in section 4123 of SAFETEA-LU.

DATES: The dates associated with this effort assume that a grant will be awarded by FMCSA to the American Association of Motor Vehicle Administrators (AAMVA) so that the CDLIS Modernization effort can begin in May 2006. Under this plan, all States will implement the modernized CDLIS software by December 2010. However, FMCSA will adjust dates and project activities based on actual funds appropriated and other needs identified during the course of the project.

FOR FURTHER INFORMATION CONTACT: Dominick Spataro, Division Chief, Commercial Driver's License (CDL) Division (MC-ESL), 400 Seventh Street SW., Washington, DC 20590. Telephone: (202) 366-2995. E-mail: Dominick.Spataro@fmcsa.dot.gov.

SUPPLEMENTARY INFORMATION:

Key Tasks

1. Systems Analysis

FMCSA estimates that the systems analysis stage will take approximately one year to complete. This initial stage is composed of the following phases:

Project Definition/Solution Planning Phase (May 2006-July 2006)

AAMVA will prepare a comprehensive project definition as a deliverable of this phase. The CDLIS Modernization stakeholders will be representatives from the States, FMCSA, other government agencies, the motor carrier industry, law enforcement, Canada, Mexico, and AAMVA, and will be invited to participate throughout the process. This participation is crucial as stakeholder input will help to identify existing problems, and develop and implement needed improvements. Systems analysts will prepare and then review the project definition report before publishing a final draft version. AAMVA will deliver the final draft to the key project stakeholders for review. AAMVA will then deliver the final draft to FMCSA representatives for review and approval.

During the Project Definition/Solution Planning phase, AAMVA will develop the master project plan and outline the project tasks and sub-tasks at a detailed level. AAMVA will evaluate timelines and other factors and assign resources. AAMVA will create a master project plan in Microsoft Project and deliver it to the key stakeholders. AAMVA will establish one or more Working Groups (WG) in this phase based on the approach. The Project Definition/Solution Planning Phase will result in the project kickoff meeting and refinements to the project definition report and the master project plan.

Requirements Definition Phase (May 2006-February 2007)

The Requirements Definition Phase will establish the foundation of the project. During this phase, the business requirements will be evaluated and documented. These include: Requirements for modernized CDLIS processes and reporting, the technical environment, business rules, procedures, performance indices, interfaces with third party applications, and the impact on State systems supporting CDLIS. The requirements will specify that the CDLIS program take into consideration and address SAFETEA-LU provisions, specifically that the program: (a) Complies with applicable Federal information technology security standards; (b) provides for the electronic exchange of all information, including posting of convictions; (c) contains self-auditing features to ensure that data is being posted correctly and consistently by the States; and (d) integrates the commercial driver's license and medical certificate. The requirements will also incorporate recommendations from the baseline audit of the current CDLIS information system, which is required by section 4123 of SAFETEA-LU, and will seek to incorporate findings and recommendations from the Commercial Driver's License task force required to be convened by the Secretary under section 4135 of SAFETEA-LU. This task force will study and address current impediments and foreseeable challenges to the commercial driver's license program's effectiveness and measures needed to realize the full safety potential of the commercial driver's license program.

Requirements for CDLIS modernization will be gathered by different activities involving the stakeholders and existing CDLIS users. The goal is to address known issues and problems with the existing CDLIS environment and implement the enhancements mandated by Congress. This will create a modernized CDLIS that supports FMCSA's goals to increase highway safety and reduce fatalities through improved oversight of commercial drivers. Specifically, the modernized system will facilitate the exchange of commercial driver's license information among State driver's licensing agencies, law enforcement, and FMCSA. AAMVA will conduct meetings, forums, conference calls, and site visits involving the users and stakeholders of the existing CDLIS. AAMVA will take advantage of the following meetings in 2006 to pursue CDLIS modernization requirements:

• AAMVA Regional Meetings—Summer 2006. AAMVA is organized geographically into four regions. Each region meets annually to discuss major issues and share solutions to common problems. The membership includes technical specialists, and law enforcement and State driver licensing administrators and representatives.

• CDL Coordinator's Meeting—Fall 2006. This is a gathering of State representatives who work directly with CDLIS and have responsibility for the oversight of CDL programs within their States. The group includes driver licensing representatives, technical specialists, and law enforcement.

• CDLIS Modernization Conference Calls—Ongoing. As requirements are identified, AAMVA will conduct conference calls to inform the States and solicit feedback regarding the impact of the requirements. These will begin as monthly calls in May 2006 and then increase in frequency to biweekly calls and weekly calls as needed.

• CDLIS Modernization Working Group—Ongoing. The Working Group formed during the Project Definition/Solution Planning Phase will meet weekly by conference call and bimonthly for face-to-face meetings. The conference calls and meetings of the Working Group will continue throughout the duration of the project.

AAMVA will develop a comprehensive requirements definition document and deliver it to the key stakeholders as the major deliverable from this phase.

Functional Specifications Phase (November 2006-April 2007)

As the business requirements gathering and documentation nears completion, AAMVA will begin developing the functional specifications for a modernized CDLIS. AAMVA will use the business requirements captured during the Requirements Definition phase and transform each into a functional specification for a modernized CDLIS. These functional specifications provide details regarding the requirements for the functions of the CDLIS Central Site and also the dependent functions for State systems supporting CDLIS. The functional specifications provide direction to the technical teams at AAMVA and the States to guide them with the technical designs to transition the existing CDLIS into a modernized system.

External (Technical) Design Phase (December 2006-June 2007)

During this stage, functional specifications will be transformed into a comprehensive technical design. AAMVA will develop the technical design for the modernized CDLIS Central Site and teams working at the State level will address the technical design for those systems that will need to support and interface with the modernized CDLIS. Technical programmers at the central site and State level will use these specifications to produce the software that will constitute the modernized CDLIS.

Procedure Design Phase (July 2007-December 2007)

In parallel with the External (Technical) Design phase, the functional specifications will be evaluated to address those aspects of a modernized CDLIS that do not involve automated computer-based code. This pertains to the business procedures that support all of the activities involved in managing the Commercial Drivers Licensing program at the State and Federal level. As the modernized CDLIS is deployed, stakeholders will need to alter their business procedures to take advantage of the capabilities and support provided by a modernized CDLIS.

2. States to Apply for Federal Grants (2007-2009)

The functional specifications and external and procedure designs that result from the system analysis phase will be provided to the States. This will help them determine the scope of the functional enhancements or changes to their respective applications with reference to the CDLIS modernization project. Based on the level of effort required for the CDLIS modernization project, States may be reimbursed by FMCSA for as much as 80 percent of the FMCSA-approved, eligible costs.

3. Programming

Central Site Programming (March 2007-February 2009)

During this stage, AAMVA will develop the software for the modernized CDLIS Central Site. The main tasks of the programming stage at all levels include coding, unit testing, and integration testing. Coding involves programmers writing the code to implement the logic that will provide the functionality of the modernized CDLIS. The programmer will conduct unit testing to ensure that the code satisfies the requirements and technical design as specified. Integration testing will ensure that the components of the system, produced by multiple programmers, function properly together and in accordance with the specifications. The central site programming is expected to take between two and three years to complete.

State Application Programming (June 2007-March 2009)

In parallel to the central site programming, the States will initiate their programming effort to incorporate the newly added or modified CDLIS business functions into their applications. Each State will be responsible for developing and executing its own project plan at all levels (that is, coding, unit testing, integration testing, etc.) of the CDLIS modernization project.

Note: Duration for the application programming will vary from State to State. The plan uses approximately four years as the overall duration for all of the States to complete the application programming.

4. Acceptance Testing (June 2007-March 2009)

As the integration testing in the programming stage nears completion, AAMVA will begin formal acceptance testing of the software for the modernized CDLIS Central Site. In parallel with this activity at the central site, States will conduct acceptance testing of the code at the State level to support the modernized CDLIS. The States will execute specific test scenarios to ensure that the CDLIS Central Site functions in accordance with the specifications.

5. Develop State-Structured Test Plans (October 2008-March 2009)

States will complete coding and testing at the State level, but this code will need to undergo structured testing by AAMVA before it can be placed into the modernized CDLIS environment. This ensures that a State's code works properly according to the specifications and prevents the possibility of faulty State code disrupting the entire CDLIS environment. Structured testing is a series of test cases designed by AAMVA that a State must successfully execute in order to have its code certified for production. This activity covers the design of the test cases and data by AAMVA to support structured testing.

6. State-Structured Testing (March 2009-December 2010)

This activity is the implementation of the State-structured test plans developed in the previous activity. It includes the actual structured testing of their modernized CDLIS code by each State. AAMVA and State personnel will work together to execute the structured test cases and to monitor the results. After a State completes the required structured testing, its code can become part of the modernized CDLIS environment. All States are projected to have completed structured testing and to be operational in the modernized CDLIS production environment by December 2010.

7. Network Upgrade To Provide Encryption (May 2006-April 2009)

The original CDLIS was developed when computer technology was much less sophisticated and the methods and techniques of those seeking to illegally access or damage data systems were less advanced. A modernized CDLIS must include additional precautions to safeguard its operation and to ensure that the data it manages is not compromised. This task covers the activity needed to provide encryption of the data traveling across the network as it is communicated from State to State in the normal operation of CDLIS.

8. Grant Management (2007-2010)

Modernizing CDLIS at the State level requires time, resources, and budgetary support. States can submit a plan to FMCSA to identify the scope of the activity at the State level required to modernize CDLIS and to quantify the amount of assistance required. Following approval, FMCSA will manage the invoicing and reimbursement activity associated with the States accomplishing their plans for modernizing CDLIS.

9. Consultation With Safety Representatives

SAFETEA-LU specifies that in developing the plan, FMCSA will consult with representatives of the motor carrier industry, State licensing agencies, and State safety enforcement agencies. Consistent with this requirement, FMCSA has worked closely with AAMVA to develop this plan and will request its assistance in managing the project. Additionally, FMCSA has contacted a variety of interested safety representatives, including the Commercial Vehicle Safety Alliance, International Registration Plan, Inc., International Association of Chiefs of Police, New York State Department of Motor Vehicles, International Brotherhood of Teamsters, American Trucking Associations, Owner-Operator Independent Drivers Association, National Tank Truck Carriers, Inc., American Bus Association, United Motorcoach Association, National Conference of State Legislatures, and the National Governors Association to request their participation in reviewing the modernization plan. The national organizations expanded the consultative and review process by sharing our plan with their membership. Comments received were supportive of our efforts and plan.

Issued on: April 26, 2006.
Warren E. Hoemann,
Acting Administrator.

[FR Doc. E6-6598 Filed 5-1-06; 8:45 am]

BILLING CODE 4910-EX-P